NATIONAL AERONAUTICS AND SPACE ADMINISTRATION

[Notice 02-081]

Notice of Prospective Patent License

AGENCY: National Aeronautics and Space Administration.

ACTION: Notice of prospective patent license.

SUMMARY: NASA hereby gives notice that Radio Sound, Inc. of Louisville, Kentucky, has applied for a partially exclusive patent license to practice the invention described and claimed in U.S. Patent Application Serial Number 09/163,794, entitled “Communication System with Adaptive Noise Suppression,” which is assigned to the United States of America as represented by the Administrator of the National Aeronautics and Space Administration. Written objections to the prospective grant of a license should be sent to Randall M. Heald, Assistant Chief Counsel/Patent Counsel, and John F. Kennedy Space Center.

DATES: Responses to this Notice must be received by August 22, 2002.

FOR FURTHER INFORMATION CONTACT: Randall M. Heald, Assistant Chief Counsel/Patent Counsel, John F. Kennedy Space Center, Mail Code: CC-A, Kennedy Space Center, FL 32899, telephone (321) 867-7214.

Dated: July 1, 2002.
Paul G. Pastorek,
General Counsel.

[FR Doc. 02-16961 Filed 7-5-02; 8:45 am]

BILLING CODE 7510-01-P